DEPARTMENT OF STATE

[Public Notice 4141]

Determination on Report on Colombian Aerial Spray Program

AGENCY: Department of State.

ACTION: Notice.

Pursuant to the Kenneth M. Ludden Foreign Operations, Export Financing and Related Programs Appropriations Act, 2002 (Public Law 107-115), and after consultation with the Administrator of the Environmental Protection Agency and the Secretary of the Department of Agriculture, I hereby determine that:

(1) Aerial coca fumigation is being carried out in Colombia in accordance with regulatory controls required by the Environmental Protection Agency as labeled for use in the United States; and in accordance with Colombian laws as confirmed by the Colombian Government;

(2) The chemicals used in the aerial spraying of coca, in the manner in which they are being applied, do not pose unreasonable risks or adverse effects to humans or the environment; and

(3) Procedures are available to evaluate claims of local citizens that their health was harmed or their licit agricultural crops were damaged by such aerial coca fumigation and to provide fair compensation for meritorious claims; and that alternative development programs have been developed (in consultation with communities and local authorities in the departments in which such aerial coca fumigation is planned, and in the departments in which such aerial coca fumigation has been conducted) and such programs are being implemented.

You are hereby authorized and directed to report this determination to the Congress and to arrange for its publication in the Federal Register.

Dated: September 4, 2002.
Richard L. Armitage,
Deputy Secretary of State, Department of State.

[FR Doc. 02-25169 Filed 10-2-02; 8:45 am]

BILLING CODE 4710-10-P